DEPARTMENT OF TRANSPORTATION

Pipeline and Hazardous Materials Safety Administration

[Docket ID PHMSA-2012-0175]

Notice of Availability of Final Environmental Assessment and Finding of No Significant Impact for the Longhorn Pipeline Reversal Project

AGENCY: Pipeline and Hazardous Materials Safety Administration (PHMSA), DOT.

ACTION: Notice of Availability of Final Environmental Assessment and Finding of No Significant Impact for the Longhorn Pipeline Reversal Project.

SUMMARY: In accordance with the National Environmental Policy Act (NEPA), 42 U.S.C. 4321-4347, and the Council on Environmental Quality NEPA implementing regulations, 40 CFR parts 1500-1508, the Pipeline and Hazardous Materials Safety Administration (PHMSA) is announcing the availability of the Final Environmental Assessment (FEA) and Finding of No Significant Impact (FONSI) for the Longhorn Pipeline Reversal Project (Project).

PHMSA has posted the FEA and FONSI online at http://www.regulations.gov in docket number PHMSA-2012-0175.

FOR FURTHER INFORMATION CONTACT: Amelia Samaras, Attorney, Pipeline and Hazardous Materials Safety Administration, Office of Chief Counsel, 1200 New Jersey Avenue SE., Washington, DC 20590; by phone at 202-366-4362; or email at amelia.samaras@dot.gov.

SUPPLEMENTARY INFORMATION: The Longhorn Pipeline runs from El Paso, Texas to Houston, Texas and is owned and operated by Magellan Pipeline Company, L.P. (Magellan). The Longhorn Pipeline currently transports refined petroleum products from east to west (Houston to El Paso). The Project will convert the segment of the Longhorn Pipeline that runs from Crane, Texas to Houston, Texas to crude oil service and will reverse the flow so that crude oil flows from west to east (Crane to Houston). At Crane, refined products will enter the pipeline and move west to El Paso, Texas. The refined products will enter the Longhorn Pipeline via an existing pipeline segment that connects the Longhorn Pipeline to the existing Orion West Pipeline located to the north of the Longhorn Pipeline. The Orion West Pipeline runs from Frost, Texas to El Paso and is also owned and operated by Magellan.

PHMSA regulates the transportation of hazardous liquids via pipeline and also issues and enforces pipeline safety regulations that dictate requirements for construction, design, testing, operation, and maintenance of natural gas and hazardous liquid (including crude oil, petroleum products, and anhydrous ammonia) pipelines. PHMSA does not typically serve as lead agency for pipeline construction projects, as it has no authority over pipeline siting and does not issue any approval or authorization to commence a pipeline construction project. However, a settlement agreement specific to the Longhorn Pipeline titled “The Longhorn Mitigation Plan” (LMP) resulted from litigation associated with changes made to the Longhorn Pipeline in 1999. The LMP provides PHMSA with broader responsibility and oversight of the Longhorn Pipeline than it would have under normal circumstances. Accordingly, PHMSA has issued an FEA in order to analyze the impacts of the Project.

The Project requires upgrades to the pipeline and will include construction of a six-mile refined product pipeline segment in El Paso, a three-mile crude oil pipeline segment from 9th Street Junction to Speed Junction in Houston, and an eight-mile refined product pipeline segment from East Houston to Holland Avenue in Houston. As part of the Project, in order to facilitate reversal and increased capacity, Magellan will modify and upgrade existing infrastructure by constructing new pump stations and terminals at various locations along the Longhorn and Orion Pipelines' right-of-ways. Although not originally included in the LMP, activities along the Orion West Pipeline and the segment from Odessa to Crane that will take place as a result of the Project are analyzed in the FEA as connected actions.

PHMSA published the draft environmental assessment for this project for public comment on July 31, 2012. PHMSA received 48 comments. All but three of the comments were form letters in support of the project. Two comments raised environmental concerns about the project.

The FEA analyzes the changes that will take place as a result of the Project and connected actions and how the changes could impact the human environment during construction, normal operations, and in the unlikely event of a release. The FEA also analyzes the condition of the Longhorn Pipeline and how the change in product and direction will affect the pipeline. Based on the analysis presented in the FEA, PHMSA has determined that the Project will not result in significant environmental impacts.

Issued in Washington, DC, on December 27, 2012.
Alan K. Mayberry,
Deputy Associate Administrator for Field Operations.

[FR Doc. 2012-31520 Filed 12-31-12; 8:45 am]

BILLING CODE 4910-60-P